DEPARTMENT OF HOMELAND SECURITY

Office of the Secretary

[Docket No. DHS-2020-0030]

DHS Data Privacy and Integrity Advisory Committee

AGENCY: Privacy Office, Department of Homeland Security (DHS).

ACTION: Committee management; withdrawal of notice of committee charter renewal; notice of committee reestablishment.

SUMMARY: A notice of committee charter renewal for the Data Privacy and Integrity Advisory Committee, which was published in the Federal Register on June 18, 2020, is hereby withdrawn. In this document, the Acting Secretary of Homeland Security also announces the determination that the reestablishment of the Data Privacy and Integrity Advisory Committee is necessary and in the public interest in connection with the Department of Homeland Security's performance of its duties.

DATES: The notice of committee charter renewal published on June 18, 2020, at 85 FR 36873, is withdrawn as of July 2, 2020.

FOR FURTHER INFORMATION CONTACT: Nicole Sanchez, Designated Federal Officer, DHS Data Privacy and Integrity Advisory Committee, Department of Homeland Security, Privacy Office, Mail Stop 0655, 2707 Martin Luther King Jr. Ave SE, Washington, DC 20528-0655, by telephone (202) 343-1717, by fax (202) 343-4010, or by email to privacycommittee@hq.dhs.gov.

SUPPLEMENTARY INFORMATION:

Background: Under the authority of 6 U.S.C. 451, this charter reestablishes the Data Privacy and Integrity Advisory Committee (DPIAC) as a discretionary committee, which shall operate in accordance with the provisions of the Federal Advisory Committee Act (FACA), 5 U.S.C. Appendix. The Committee provides advice at the request of the Secretary and the Chief Privacy Officer of the Department of Homeland Security (DHS) (hereinafter “the Chief Privacy Officer”) on programmatic, policy, operational, security, administrative, and technological issues within DHS that relate to personally identifiable information (PII), as well as data integrity, transparency, and other privacy-related matters.

Good Cause for Late Notice: This Notice of Committee reestablishment is published less than 15 days before Notice of Charter reestablishment. Pursuant to 41 CFR 102-3.65, notices of establishment and reestablishment of advisory committees must appear at least 15 calendar days before the charter is filed. However, the General Services Administration (GSA) may approve less than 15 calendar days when requested by the agency for good cause. 41 CFR 102-3.65(b). In this case, GSA has approved less than 15 calendar days for good cause. Due to extenuating circumstances, including significant changes to the Privacy Office staffing, the need to prioritize work on issues related to COVID-19, and clearance requirements within DHS, DHS was unable to submit to GSA the necessary documentation in time to renew the DPIAC Charter before it expired on June 4, 2020.

Withdrawal of previously published notice: A notice of committee charter renewal was prematurely published on June 18, 2020, at 85 FR 36873 and is hereby withdrawn.

Dated: June 27, 2020.
Constantina Kozanas,
Chief Privacy Officer, Department of Homeland Security.

[FR Doc. 2020-14296 Filed 7-1-20; 8:45 am]

BILLING CODE 9110-9L-P